DEPARTMENT OF TRANSPORTATION

Federal Aviation Administration

14 CFR Part 39

[Docket No. FAA-2013-0702; Directorate Identifier 2012-NM-181-AD]

RIN 2120-AA64

Airworthiness Directives; 328 Support Services GmbH (Type Certificate Previously Held by AvCraft Aerospace GmbH; Fairchild Dornier GmbH; Dornier Luftfahrt GmbH) Airplanes

AGENCY: Federal Aviation Administration (FAA), DOT.

ACTION: Notice of proposed rulemaking (NPRM).

SUMMARY: We propose to supersede airworthiness directive (AD) 2008-14-16 that applies to certain 328 Support Services GmbH (Type Certificate Previously Held by AvCraft Aerospace GmbH; Fairchild Dornier GmbH; Dornier Luftfahrt GmbH) Model 328-100 and 328-300 airplanes. AD 2008-14-16 currently requires installing warning placards on the inside of the passenger door and service doors and modifying the hinge supports and support struts of the passenger doors. Since we issued AD 2008-14-16, we received reports that certain fasteners, which were installed as part of the modification, are the wrong length. This proposed AD would require replacing the fasteners which were installed as part of the modification with new fasteners of the correct length, adds new airplanes, and removes one airplane. We are proposing this AD to prevent incidents of inadvertent opening and possible detachment of a passenger door in-flight, resulting in damage to airframe and systems and loss of control of the airplane.

DATES: We must receive comments on this proposed AD by October 11, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact 328 Support Services GmbH, Global Support Center, P.O. Box 1252, D-82231 Wessling, Federal Republic of Germany; telephone +49 8153 88111 6666; fax +49 8153 88111 6565; email gsc.op@328support.de; Internet http://www.328support.de. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue SW., Renton, WA 98057-3356; telephone (425) 227-1175; fax (425) 227-1149.

SUPPLEMENTARY INFORMATION:

Comments Invited

We invite you to send any written relevant data, views, or arguments about this proposed AD. Send your comments to an address listed under the ADDRESSES section. Include “Docket No. FAA-2013-0702; Directorate Identifier 2012-NM-181-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On July 17, 2008, we issued AD 2008-14-16, Amendment 39-15611 (73 FR 40955, July 17, 2008). AD 2008-14-16 required actions intended to address an unsafe condition on 328 Support Services GmbH (Type Certificate Previously Held by AvCraft Aerospace GmbH; Fairchild Dornier GmbH; Dornier Luftfahrt GmbH) Model 328-100 and Model 328-300 airplanes.

Since we issued AD 2008-14-16, Amendment 39-15611 (73 FR 40955, July 17, 2008), we received reports that certain fasteners which were installed as part of the modification are the wrong length and need to be replaced. The European Aviation Safety Agency (EASA), which is the aviation authority for the Member States of the European Community, has issued EASA Airworthiness Directive 2012-0183R1, dated September 28, 2012 (referred to after this as the Mandatory Continuing Airworthiness Information, or “the MCAI”), to correct an unsafe condition for the specified products. The MCAI states:

At least one incident occurred where, immediately after take-off, the passenger door of a Dornier 328 aeroplane completely opened. The flight crew reportedly had no cockpit indication or audible chime prior to this event. The aeroplane returned to the departure airfield and made an uneventful emergency landing. Substantial damage to the door, handrails, door hinge arms and fuselage skin were found.

The subsequent investigation could not find any deficiency in the design of the main cabin door locking mechanism. In addition, no technical failure could be determined that precipitated the event. The flight data recorder showed that the door was closed and locked before take-off and opened shortly afterwards. Although final proof could not be obtained, the most likely way in which the door opened was that the door handle was inadvertently operated during the take-off run.

In response to the incident, AvCraft (the TC holder at the time) developed a placard set to warn the occupants against touching the door handle, as well as a structural modification of the passenger door hinge supports described in [Dornier 328 Support Services] Service Bulletin (SB) SB-328-52-460 and SB-328J-52-213 to make certain that the door does not separate from the aeroplane when inadvertently opened during flight, allowing a safe descent and landing.

EASA issued AD 2007-0199 to require the installation of warning placards and modification as detailed in these SB instructions.

Since that AD [2007-0199] was issued, 328 Support Services GmbH (the current type certificate holder) have determined that certain fasteners, identified by Part Number (P/N) NAS6703U1 and P/N NAS6703U2, which were installed as part of the modification, have the wrong length and must be replaced.

For the reasons described above, this [EASA] AD retains the requirements of EASA AD 2007-0199, which is superseded, and requires replacement of the affected fasteners by the ones that have the correct length.

This [EASA] AD has been revised to correct and clarify the actions required by paragraph (3).

This AD also adds new airplanes and removes one airplane from the applicability of this AD. You may obtain further information by examining the MCAI in the AD docket.

Relevant Service Information

328 Support Services GmbH has issued 328 Support Services Service Bulletin SB-328-52-460, Revision 2, dated March 1, 2012 (for Model 328-100 airplanes); and Dornier 328 Support Services Service Bulletin SB-328J-52-213, Revision 1, dated August 17, 2011 (for Model 328-300 airplanes). The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 35 airplanes of U.S. registry.

We estimate the following costs to comply with this proposed AD:

Estimated Costs
Action | Labor cost | Parts cost | Cost per product | Cost on U.S. operators
Modify passenger doors [retained actions from AD 2008-14-16, Amendment 39-15611 (73 FR 40955, July 17, 2008)] | 38 work-hours × $85 per hour = $3230 | $11,961 | $15,191 | $531,685
Replace fasteners [new proposed action] | 25 work-hours × 85 per hour = 2,125 | 0 | 2,125 | 74,375

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2008-14-16, Amendment 39-15611 (73 FR 40955, July 17, 2008), and adding the following new AD:

328 Support Services GmbH (Type Certificate Previously Held by AvCraft Aerospace GmbH; Fairchild Dornier GmbH; Dornier Luftfahrt GmbH): Docket No. FAA-2013-0702; Directorate Identifier 2012-NM-181-AD.

(a) Comments Due Date

We must receive comments by October 11, 2013.

(b) Affected ADs

This AD supersedes AD 2008-14-16, Amendment 39-15611 (73 FR 40955, July 17, 2008).

(c) Applicability

This AD applies to 328 Support Services GmbH (Type Certificate previously held by AvCraft Aerospace GmbH; Fairchild Dornier GmbH; Dornier Luftfahrt GmbH) airplanes, certificated in any category, identified in paragraphs (c)(1) and (c)(2) of this AD.

(1) Model 328-100 airplanes, serial numbers 3005 through 3101 inclusive, 3103, 3104, 3106, 3109, 3110, 3112, 3113, 3115, 3117, and 3119.

(2) Model 328-300 airplanes, all serial numbers.

(d) Subject

Air Transport Association (ATA) of America Code 11, Placards and Markings; and Code 52, Doors.

(e) Reason

This AD was prompted by reports that certain fasteners, which were installed as part of a modification, are the wrong length. We are issuing this AD to prevent incidents of inadvertent opening and possible detachment of a passenger door in-flight, resulting in damage to airframe and systems and loss of control of the airplane.

(f) Compliance

You are responsible for having the actions required by this AD performed within the compliance times specified, unless the actions have already been done.

(g) Retained Installation and Modification for Airplanes Identified in AD 2008-14-16, Amendment 39-15611 (73 FR 40955, July 17, 2008) with Revised Service Information

This paragraph restates the requirements of paragraph (f) of AD 2008-14-16, Amendment 39-15611 (73 FR 40955, July 17, 2008), with revised service information.

(1) For Model 328-100 airplanes, serial numbers 3005 through 3098 inclusive, 3100, 3106, 3109, 3110, 3112, 3113, 3115, 3117, and 3119; and Model 328-300 airplanes, having serial numbers 3102, 3105, 3108, 3111, 3114, 3116, 3118, and 3120 through 3224 inclusive: Within 30 days after August 21, 2008, the effective date of AD 2008-14-16, Amendment 39-15611 (73 FR 40955, July 17, 2008), install warning placards on the inside of the passenger door and service doors, in accordance with the Accomplishment Instructions of the service information specified in paragraph (g)(1)(i) or (g)(1)(ii) of this AD, as applicable.

(i) Dornier [328 Support Services] Service Bulletin SB-328-11-454, dated May 3, 2004 (for Model 328-100 airplanes).

(ii) Dornier [328 Support Services] Service Bulletin SB-328J-11-209, dated May 3, 2004 (for Model 328-300 airplanes).

(2) For Model 328-100 airplanes, serial numbers 3005 through 3098 inclusive, 3100, 3106, 3109, 3110, 3112, 3113, 3115, 3117, and 3119; and Model 328-300 airplanes, having serial numbers 3102, 3105, 3108, 3111, 3114, 3116, 3118, and 3120 through 3224 inclusive: Within 12 months after the effective date of August 21, 2008, the effective date of AD 2008-14-16, Amendment 39-15611 (73 FR 0955, July 17, 2008), modify the hinge supports and support struts of the passenger doors, in accordance with the Accomplishment Instructions of the service information specified in paragraphs (g)(2)(i) through (g)(2)(iv) of this AD, as applicable. As of the effective date of this AD only the service information specified in paragraphs (g)(2)(ii) or (g)(2)(iv) of this AD, as applicable, may be used.

(i) Dornier [328 Support Services] Service Bulletin SB-328-52-460, dated February 4, 2005 (for Model 328-100 airplanes).

(ii) Dornier 328 Support Services Service Bulletin SB-328-52-460, Revision 2, dated March 1, 2012 (for Model 328-100 airplanes).

(iii) Dornier [328J Support Services] Service Bulletin SB-328J-52-213, dated February 4, 2005, (for Model 328-300 airplanes).

(iv) Dornier 328J Support Services Service Bulletin SB-328J-52-213, Revision 1, dated August 17, 2011 (for Model 328-300 airplanes).

(h) New Installation and Modification for Newly Added Airplanes

For airplanes not identified in paragraph (g) of this AD, do the actions required by paragraphs (h)(1) and (h)(2) of this AD.

(1) Within 30 days after the effective date of this AD, install warning placards on the inside of the passenger door and service doors, in accordance with the Accomplishment Instructions of Dornier [328 Support Services] Service Bulletin SB-328-11-454, dated May 3, 2004 (for Model 328-100 airplanes); or Dornier [328 Support Services] Service Bulletin SB-328J-11-209, dated May 3, 2004 (for Model 328-300 airplanes); as applicable.

(2) Within 12 months after the effective date of this AD, modify the hinge supports and support struts of the passenger doors, in accordance with the Accomplishment Instructions of Dornier 328 Support Services Service Bulletin SB-328-52-460, Revision 2, dated March 1, 2012 (for Model 328-100 airplanes); or Dornier 328 Support Services Service Bulletin SB-328J-52-213, Revision 1, dated August 17, 2011 (for Model 328-300 airplanes); as applicable.

(i) New Replacement of Fasteners for all Airplanes

For airplanes on which 26 part number NAS6703U1 fasteners were installed as specified in the service information in paragraphs (g)(2)(i) and (g)(2)(iii) of this AD: Within 6 months after the effective date of this AD, replace the 20 affected part number NAS6703U1 fasteners with new fasteners having part number NAS6703U2, in accordance with the Accomplishment Instructions of Dornier 328 Support Services Service Bulletin SB-328-52-460, Revision 2, dated March 1, 2012 (for Model 328-100 airplanes); or Dornier 328 Support Services Service Bulletin SB-328J-52-213, Revision 1, dated August 17, 2011 (for Model 328-300 airplanes); as applicable.

Note 1 to paragraph (i) of this AD: Dornier 328 Support Services Service Bulletin SB-328-52-460, Revision 2, dated March 1, 2012 and Dornier 328 Support Services Service Bulletin SB-328J-52-213, Revision 1, dated August 17, 2011, identify 20 of 26 part number NAS6703U1 fasteners requiring to be replaced due to incorrect length.

(j) Credit for Previous Actions

This paragraph provides credit for certain actions required by paragraph (g) and (h)(2) of this AD, if those actions were performed before the effective date of this AD using 328 Support Services Service Bulletin SB-328-52-460, Revision 1, dated August 17, 2011.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue SW., Renton, WA 98057-3356; telephone (425) 227-1175; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

(1) Refer to European Aviation Safety Agency (EASA) Airworthiness Directive 2012-0183R1, dated September 28, 2012, for related information, which can be found in the AD docket on the Internet at http://www.regulations.gov.

Issued in Renton, Washington, on August 16, 2013.
Jeffrey E. Duven,
Acting Manager, Transport Airplane Directorate, Aircraft Certification Service.

[FR Doc. 2013-20845 Filed 8-26-13; 8:45 am]

BILLING CODE 4910-13-P